DEPARTMENT OF THE INTERIOR

National Park Service

[NPS-WASO-NAGPRA-NPS0039153; PPWOCRADN0-PCU00RP14.R50000]

Notice of Inventory Completion: Robert S. Peabody Institute of Archaeology, Andover, MA

AGENCY: National Park Service, Interior.

ACTION: Notice.

SUMMARY: In accordance with the Native American Graves Protection and Repatriation Act (NAGPRA), the Robert S. Peabody Institute of Archaeology, Phillips Academy (RSPI) has completed an inventory of human remains and associated funerary objects and has determined that there is a cultural affiliation between the human remains and associated funerary objects and Indian Tribes or Native Hawaiian organizations in this notice.

DATES: Repatriation of the human remains and associated funerary objects in this notice may occur on or after January 6, 2025.

ADDRESSES: Ryan J. Wheeler, RSPI, Phillips Academy, 180 Main Street, Andover, MA 01810, telephone (978) 749-4490, email rwheeler@andover.edu.

SUPPLEMENTARY INFORMATION: This notice is published as part of the National Park Service's administrative responsibilities under NAGPRA. The determinations in this notice are the sole responsibility of the RSPI, and additional information on the determinations in this notice, including the results of consultation, can be found in the inventory or related records. The National Park Service is not responsible for the determinations in this notice.

Abstract of Information Available

Human remains representing, at least, 21 individuals have been identified. The 144 associated funerary objects are two lots of beads, nine lots of stone bifaces, three lots of copper buttons, five lots of stone celts, nine lots of chipped stone, one lot of clay, one lot of copper objects, one lot stone flakes, three lots of game pieces, two lots of shell gorgets, four lots of ground stone objects, one lot knives, two lots of mixed ceramic, stone, and faunal remains, five lots of modified shell, one lot of pebbles, one lot of perforators, one lot of stone pestles, 25 lots of stone points and projectile points, one lot of stone scrapers, 12 lots of shell and shell fragments, 41 lots of ceramic sherds, one lot of stone balls, one lot of unmodified shells, and 12 lots of ceramic vessels. In 1903, Warren K. Moorehead, curator of the RSPI (then known as the Department of Archaeology, Phillips Academy) disturbed burials at a large site on the farm of James R. Willis about 4 miles south of Hopkinsville, Christian County, KY. Moorehead removed remains and funerary belongings from at least 100 graves; Moorehead and other RSPI personnel transferred individuals to other institutions, including the Smithsonian Institution's National Museum of Natural History and the Peabody Museum of Archaeology and Ethnology, Harvard University. Ceramics and other features indicate the site dates to the late Mississippian Tinsley Hill phase, a subphase of the Angel Phase. RSPI personnel were unable to locate specific information about the presence of any potentially hazardous substances used to treat any of the human remains or associated funerary objects. Additional human remains and associated funerary objects from Moorehead's 1903 disturbance are reported by the Peabody Museum of Archaeology and Ethnology, Harvard University in a separate Notice.

Cultural Affiliation

Based on the information available and the results of consultation, cultural affiliation is clearly identified by the information available about the human remains and associated funerary objects described in this notice.

Determinations

The RSPI has determined that:

• The human remains described in this notice represent the physical remains of 21 individuals of Native American ancestry.

• The 144 objects described in this notice are reasonably believed to have been placed intentionally with or near individual human remains at the time of death or later as part of the death rite or ceremony.

• There is a connection between the human remains and associated funerary objects described in this notice and Absentee-Shawnee Tribe of Indians of Oklahoma; Cherokee Nation; Eastern Band of Cherokee Indians; Eastern Shawnee Tribe of Oklahoma; Quapaw Nation; Shawnee Tribe; The Muscogee (Creek) Nation; The Osage Nation; and the United Keetoowah Band of Cherokee Indians in Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 6, 2025. If competing requests for repatriation are received, the RSPI must determine the most appropriate requestor prior to repatriation. Requests for joint repatriation of the human remains and associated funerary objects are considered a single request and not competing requests. The RSPI is responsible for sending a copy of this notice to the Indian Tribes and Native Hawaiian organizations identified in this notice.

Authority: Native American Graves Protection and Repatriation Act, 25 U.S.C. 3003, and the implementing regulations, 43 CFR 10.10.

Dated: November 22, 2024.
Melanie O'Brien,
Manager, National NAGPRA Program.

[FR Doc. 2024-28489 Filed 12-4-24; 8:45 am]

BILLING CODE 4312-52-P